NATIONAL ARCHIVES AND RECORDS ADMINISTRATION

[NARA-2013-036]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 9, 2013. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of the Census (DAA-0029-2013-0006, 30 items, 25 temporary items). Records of the Company Statistics Division such as economic census and sample survey questionnaires, economic census suggestion files, congressional and respondent correspondence, rejected survey and project files, operations files, data tabulations, and other system processing records such as employment data summaries. Proposed for permanent retention are economic census planning and management files, approved survey and project files, survey procedures memorandums, and monthly reports prepared and retained at the Division level.

2. Department of Defense, Defense Logistics Agency (DAA-0361-2013-0006, 1 item, 1 temporary item). Records relating to the application, implementation, and certification of social media platforms.

3. Department of Defense, Defense Logistics Agency (DAA-0361-2013-0009, 1 item, 1 temporary item). Records related to the disposition of computers.

4. Department of Defense, National Security Agency (N1-457-13-2, 3 items, 3 temporary items). Records related to agency-wide succession management planning programs, including personnel-related records, general correspondence, and other documentation used to support this planning.

5. Department of Health and Human Services, Office of the Secretary (DAA-0468-2013-0005, 3 items, 2 temporary items). Plans, internal correspondence, summaries, guidance, site visit reports, drafts, and background materials that document the public health and medical recovery coordination cycle for small-scale disasters. Proposed for permanent retention are case files of historically significant natural and man-made disaster public health and medical recovery coordination plans, correspondence, activation summaries, and reports.

6. Department of Health and Human Services, Office of the Secretary (DAA-0468-2013-0006, 3 items, 2 temporary items). Veterinary health records, logs, certificates, inspection reports, and summary reports that document veterinary disaster response for small-scale disasters. Proposed for permanent retention are historically significant natural and man-made veterinary disaster response situational reports.

7. Department of Health and Human Services, Office of the Secretary (DAA-0468-2013-0007, 2 items, 1 temporary item). Background materials, working files, ad hoc reports, and internal briefing materials documenting the Department's implementation of the American Recovery and Reinvestment Act. Proposed for permanent retention are preliminary and final implementation plans and reports.

8. Department of the Interior, Bureau of Safety and Environmental Enforcement (N1-473-12-3, 6 items, 6 temporary items). Records documenting the analysis and evaluation of Outer Continental Shelf resources including conservation management records, geophysical and geological data management, and information management support records.

9. Department of the Interior, Bureau of Safety and Environmental Enforcement (N1-473-12-4, 7 items, 7 temporary items). Records documenting energy and mineral leasing activities including lease adjudication, royalty relief, lease bonds, suspensions of operation, technical studies, and information management and publication support records.

10. Department of Justice, Executive Office for United States Attorneys (N1-118-10-6, 3 items, 1 temporary item). Non-case file records created by or for each United States Attorney within the 94 judicial districts, including discretionary local operating procedures for routine administrative functions. Proposed for permanent retention are all United States Attorneys' subject, project, and correspondence files, official calendars, briefing books, local operating policies, organizational charts, and district-specific office directives.

11. Department of Justice, Executive Office for United States Attorneys (N1-118-10-7, 6 items, 5 temporary items). All case files, matters, and records created within the 94 judicial districts which do not meet the criteria for permanent retention, including outstanding fugitive warrants, uncollected civil claims, certain criminal and civil categories, and certain magistrate and district court cases. Proposed for permanent retention are all cases that went to trial, involve life or death sentences, or match certain other categories.

12. Environmental Protection Agency, Agency-wide (DAA-0412-2013-0008, 2 items, 2 temporary items). Records of activities relating to management and oversight of grants and other program support agreements.

13. Environmental Protection Agency, Agency-wide (DAA-0412-2013-0014, 5 items, 5 temporary items). Records of activities related to management and oversight of the acquisition of goods and services.

Dated: August 1, 2013.
Paul M. Wester, Jr.,
Chief Records Officer for the U.S. Government.

[FR Doc. 2013-19287 Filed 8-8-13; 8:45 am]

BILLING CODE 7515-01-P